DEPARTMENT OF THE INTERIOR

Fish and Wildlife Service

[FWS-HQ-ES-2021-N023; FF09E41000 212 FXES11130900000]

Endangered and Threatened Species; Issuance of Enhancement of Survival and Incidental Take Permits for Safe Harbor Agreements, Candidate Conservation Agreements, Habitat Conservation Plans, and Recovery Activities, January 1, 2020, Through December 31, 2020

AGENCY: Fish and Wildlife Service, Interior.

ACTION: Notice.

SUMMARY: We, the U.S. Fish and Wildlife Service, in accordance with the Endangered Species Act (ESA), provide a list to the public of permits issued under the ESA. With some exceptions, the ESA prohibits take of listed species unless a Federal permit is issued that authorizes or exempts the taking under the ESA. We provide this list to the public as a summary of our permit issuances for candidate conservation agreements with assurances, safe harbor agreements, habitat conservation plans, and recovery activities for calendar year 2020.

FOR FURTHER INFORMATION CONTACT: For general information about the ESA permit process, contact Amanda Murnane, via phone at 703-358-2469,viaemailatamanda_murnane@fws.gov, or via the Federal Relay Service at 800-877-8339. For information on specific permits, see the contact information below in Permits Issued.

SUPPLEMENTARY INFORMATION: We, the U.S. Fish and Wildlife Service, in accordance with section 10(d) of the Endangered Species Act of 1973 (ESA; 16 U.S.C. 1531 et seq.), as amended, provide a list to the public of the permits issued under section 10(a)(1)(A) and 10(a)(1)(B) of the ESA. With some exceptions, the ESA prohibits take of listed species unless a Federal permit is issued that authorizes the taking, or the take is exempted through section 7 of the ESA. Under section 10(a)(1)(A) of the ESA, we issue enhancement of survival permits in conjunction with candidate conservation agreements with assurances (CCAAs) and safe harbor agreements (SHAs). Section 10(a)(1)(A) also authorizes recovery permits. Section 10(a)(1)(B) permits authorize take of listed species incidental to otherwise lawful activities associated with habitat conservation plans (HCPs). We provide this list to the public as a summary of our permit issuances for CCAAs, SHAs, HCPs, and recovery permits for calendar year 2020.

Background

Under the authority of section 10(a)(1)(A) of the ESA, we have issued enhancement of survival permits to conduct activities that provide a conservation benefit for endangered or threatened species, or for unlisted species should they become listed in the future, in response to permit applications that we received in conjunction with a SHA or a CCAA.

Recovery permits have been issued under ESA section 10(a)(1)(A) to allow for take as part of activities intended to foster the recovery of listed species, typically for scientific research in order to understand better the species' long-term survival needs.

Under ESA section 10(a)(1)(B), we may issue permits for any taking otherwise prohibited by ESA section 9 if such taking is incidental to, and not the purpose of, carrying out an otherwise lawful activity (known as an incidental take permit (ITP)) and the permit applicant submits a habitat conservation plan (HCP) that meets the permit issuance criteria under section 10(a)(2)(B). Typically, applicants seek an ITP to conduct activities such as residential and commercial development, infrastructure development or maintenance, and energy development projects that range in scale from small to landscape-level planning efforts.

The permits associated with SHAs, CCAAs, HCPs, and recovery activities that we issued between January 1 and December 31, 2020, are listed in the tables below.

Under section 10(a)(1)(A), we issued each permit only after we determined that it was applied for in good faith, that granting the permit would not be to the disadvantage of the listed species, or to the unlisted species should it be listed; that the proposed activities would benefit the recovery or the enhancement of survival of the species; and that the terms and conditions of the permits were consistent with the purposes and policy set forth in the ESA. Under section 10(a)(1)(B), we issued permits only after we determined that the applicant is eligible and has submitted a complete application and HCP that fully meets the permit issuance criteria consistent with section 10(a)(2)(B).

Permits Issued

Hawaii, Idaho, Oregon (Except for the Klamath Basin), Washington, American Samoa, Commonwealth of the Northern Mariana Islands, Guam, and the Pacific Trust Territories

The following permits, sorted in the table below by type of permit or agreement and date issued, were issued by the Regional office responsible for section 10 permitting in the States and territories listed above.

HCPs, CCAAs, and SHAs

For more information about any of the following HCP, CCAA, or SHA permits, contact the field office that issued the permit by telephone at the appropriate telephone number: Oregon Fish and Wildlife Office (OR): 503-231-6179; Washington Fish and Wildlife Office (WA): 360-753-9440; Pacific Islands (HI): 808-792-9400.

Recovery Permits

For more information about any of the recovery permits in the following table, contact the Recovery Permit Coordinator by email at PermitsR1ES@fws.gov or by telephone at 503-231-6131.

Permit No. | Permit type | Permittee | Date issued and state | Plan or agreement name
TE-074138D-0 | HCP | Hawaii Department of Transportation | 5/26/2020 HI | Kauai Seabird Habitat Conservation Plan.
TE-074389D-0 | HCP | Kauai Coffee Company, LLC | 5/26/2020 HI | Kauai Seabird Habitat Conservation Plan.
TE-074390D-0 | HCP | NCL (Bahamas) LTD | 6/10/2020 HI | Kauai Seabird Habitat Conservation Plan.
TE-074391D-0 | HCP | County of Kauai | 5/26/2020 HI | Kauai Seabird Habitat Conservation Plan.
TE-074392D-0 | HCP | SOF-XI Kauai PV Hotel LP | 5/26/2020 HI | Kauai Seabird Habitat Conservation Plan.
TE-074393D-0 | HCP | Essex House Condominium Corporation | 5/26/2020 HI | Kauai Seabird Habitat Conservation Plan.
TE-074394D-0 | HCP | Kauai Blue Inc, dba Sheraton Kauai | 5/26/2020 HI | Kauai Seabird Habitat Conservation Plan.
TE-074388D-0 | HCP | Alexander & Baldwin Inc | 6/10/2020 HI | Kauai Seabird Habitat Conservation Plan.
TE-013242D-0 | HCP | Skookumchuck Wind Energy, LLC | 2/5/2020 WA | Skookumchuck Wind Energy Project Habitat Conservation Plan.
TE-089773D-0 | HCP | Arnold Irrigation District | 12/31/2020OR | Deschutes Basin Habitat Conservation Plan.
TE-067596D-0 | HCP | Duane DeChaux | 5/15/2020 WA | DeChaux Habitat Conservation Plan for the Yelm Subspecies of the Mazama Pocket Gopher, Thurston County, Washington.
TE-081283D-0 | HCP | Puget Sound Energy | 9/21/2020 WA | Habitat Conservation Plan for Taylor's checkerspot butterfly and three subspecies of the Mazama pocket gopher, Puget Sound Energy in Thurston County, Washington.
TE-067749D-0 | SHA | Lincoln Soil and Water Conservation District | 12/15/2020 OR | Safe Harbor Agreement for Oregon Silverspot Butterfly Central Coast Populations in Lane County, Oregon.
TE-074135D-0 | SHA | David T. Ketrenos | 4/14/2020 WA | Template Safe Harbor Agreement for Columbia Basin Pygmy Rabbit.
TE-076161D-0 | CCAA | Pacific West Timber Co. (Oregon) | 6/8/2020 OR | Template CCAA for Fisher in Oregon.
TE-076163D-0 | CCAA | Franklin-Clarkson Timber Co., LLC | 6/8/2020 OR | Template CCAA for Fisher in Oregon.
TE-079857D-0 | CCAA | Siskiyou Timberlands LLC | 8/26/2020 OR | Template CCAA for Fisher in Oregon.
TE-798744-9 | Recovery | Kootenai Tribe of Idaho | 1/29/2020 | N/A.
TE-025955C | Recovery | Price, Melissa R | 2/12/2020 | N/A.
TE-050644 | Recovery | Washington Department of Fish and Wildlife | 2/24/2020 | N/A.
TE-049208B | Recovery | Summers, Tammy M | 3/9/2020 | N/A.
TE-094776A | Recovery | Idaho Cooperative Fish and Wildlife Research Unit | 3/9/2020 | N/A.
TE-008598C | Recovery | The Institute for Bird Populations | 4/9/2020 | N/A.
TE-136964 | Recovery | Washington Department of Natural Resources | 4/16/2020 | N/A.
TE-081239B | Recovery | Washington Department of Natural Resources | 4/16/2020 | N/A.
TE-071541A | Recovery | Confederated Tribes of Warm Springs | 4/16/2020 | N/A.
TE-739923 | Recovery | Hawaii Volcanoes National Park | 5/1/2020 | N/A.
TE-064022A | Recovery | Confederated Tribes of Warm Springs | 5/1/2020 | N/A.
TE-055327D | Recovery | U.S. Forest Service | 5/7/2020 | N/A.
TE-069838D | Recovery | Shoshone-Bannock Tribes | 5/11/2020 | N/A.
TE-227268 | Recovery | Columbia River Inter-Tribal Fish Commission | 5/11/2020 | N/A.
TE-002670A | Recovery | Robertson, Ian C | 5/20/2020 | N/A.
TE-066355D | Recovery | U.S. Geological Survey | 5/22/2020 | N/A.
TE-074340D | Recovery | National Council for Air and Stream Improvement, Inc | 5/26/2020 | N/A.
TE-075138D | Recovery | Idaho State University | 5/27/2020 | N/A.
TE-022702C | Recovery | Intermountain Bird Observatory | 6/10/2020 | N/A.
TE-005885 | Recovery | Seattle City Light | 6/10/2020 | N/A.
TE-067157D | Recovery | Oregon State University | 6/22/2020 | N/A.
TE-071611D | Recovery | Lesica, Peter C | 6/24/2020 | N/A.
TE-077073D | Recovery | Choudhury, Anindo | 6/26/2020 | N/A.
TE-048278D | Recovery | Archipelago Research and Conservation | 9/17/2020 | N/A.
TE-066445D | Recovery | Redman, Jessica B | 10/15/2020 | N/A.
TE-071614D | Recovery | Hawaii Marine Mammal Alliance, Inc. | 10/27/2020 | N/A.
TE-826600 | Recovery | Price, Melissa R | 10/29/2020 | N/A.
TE-072088A | Recovery | NOAA Pacific Islands Fisheries Science Center | 11/20/2020 | N/A.
TE-019045C | Recovery | Hawaii Department of Land and Natural Resources | 12/2/2020 | N/A.
TE-040123A | Recovery | U.S. Army Garrison—Pohakuloa Training Area | 12/3/2020 | N/A.
TE-077753D | Recovery | Ocean Rescue Foundation | 12/3/2020 | N/A.
TE-048278D | Recovery | Archipelago Research and Conservation | 12/9/2020 | N/A

Arizona, New Mexico, Oklahoma, and Texas

The following permits, sorted in the table below by type of permit or agreement and date issued, were issued by the Regional office responsible for section 10 permitting in the States listed above.

HCPs and CCAAs

For more information about any of the following HCP or CCAA permits, contact the HCP or CCAA Permit Coordinator by email at FW2_HCP_Permits@fws.gov or by telephone at 505-248-6651.

Recovery Permits

For more information about any of the following recovery permits, contact the Recovery Permit Coordinator by email at PermitsR2ES@fws.gov or by telephone at 505-248-6649.

Permit No. | Permit type | Permittee | Date issued | Plan or agreement name
TE-60265B-2 | HCP | Mike Austin, Vice President of Operations, Contango Resources | 1/14/2020 | Amendment to the Oil and Gas Industry Conservation Plan.
TE-59403D-0 | HCP | Mark T. Cunningham, Senior Vice President, Cushing Connect Pipeline Holdings, LLC | 1/14/2020 | Amendment to the Oil and Gas Industry Conservation Plan.
TE-35947D-0 | HCP | Alan S. Rudeck, Jr | 1/28/2020 | Diamond Spring Wind Project.
TE-13632C-1 | HCP | Michael Rucker, Manager, Scout Clean Energy LLC | 2/19/2020 | Heart of Texas Wind.
TE-49742B-0 | HCP | Jay Prudhomme-Vice President Operations, Merit Energy Company, LLC | 7/2/2020 | Amendment to the Oil and Gas Industry Conservation Plan.
TE-34898D-0 | HCP | Governor J. Michael Chavarria, Pueblo of Santa Clara | 10/6/2020 | Low-Effect Habitat Conservation Plan for the Four Corners Water Development Project, Pueblo of Santa Clara, Rio Arriba County, New Mexico.
TE-75109D-0 | HCP | Tommy Peak, Hughes County District No. 3 | 11/30/2020 | Habitat Conservation Plan for NS-374 Bridge Over Leader Creek Local No. 048-D3.
TE-82379D-0 | HCP | Chad Norris, Texas Parks and Wildlife Department | 10/29/2020 | Low-Effect Habitat Conservation Plan for Balmorhea State Park Management Plan, Texas Parks and Wildlife Department.
TE-55322A-2 | CCAA | Gene Richardson, American Conservation Foundation | 9/20/2020 | Transfer of the Texas Conservation Plan for Dunes Sagebrush Lizard.
TE-066229 | Recovery | Whitenton Group, Inc | 12/7/2020 | N/A.
TE-799103 | Recovery | Hicks & Company | 11/9/2020 | N/A.
TE-776123 | Recovery | Texas A & M University—Galveston | 10/29/2020 | N/A.
TE-087759D | Recovery | GEI Consultants Inc | 11/10/2020 | N/A.
TE-181762 | Recovery | Sea Turtle, Inc | 11/4/2020 | N/A.
TE-068530D | Recovery | Devitt, Thomas James | 10/6/2020 | N/A.
TE-821356 | Recovery | U.S. Geological Survey—Grand Canyon Monitoring & Research Center | 12/10/2020 | N/A.
TE-840727 | Recovery | National Park Service | 12/4/2020 | N/A.
TE-083109D | Recovery | Byrd, Chase C | 11/4/2020 | N/A.
TE-081979D | Recovery | Collins, Dr. Scott F | 10/6/2020 | N/A.
TE-082008D | Recovery | Mcdorman, Joshua Colt | 11/4/2020 | N/A.
TE-040886B | Recovery | Zahratka, Jennifer L | 8/21/2020 | N/A.
TE-794593 | Recovery | Texas State Aquarium | 8/18/2020 | N/A.
TE-086559 | Recovery | Jones, Ricky Lee | 11/20/2020 | N/A.
TE-032428C | Recovery | Habitat Management Inc | 9/11/2020 | N/A.
TE-080520D | Recovery | Bryant, Jennifer Ann | 11/20/2020 | N/A.
TE-064311A | Recovery | Arizona Department of Emergency and Military Affairs | 9/11/2020 | N/A.
TE-063202B | Recovery | Chambers, Carol L | 8/12/2020 | N/A.
TE-081148C | Recovery | Beauregard, Nicholas David | 10/30/2020 | N/A.
TE-079006D | Recovery | Lazo, Walker G | 11/24/2020 | N/A.
TE-037780 | Recovery | Jewett Mining LLC | 12/18/2020 | N/A.
TE-081872D | Recovery | Hucks, Katrina D | 11/4/2020 | N/A.
TE-022190 | Recovery | Arizona-Sonora Desert Museum | 12/31/2020 | N/A.
TE-063195B | Recovery | Stoner, Kathryn E | 6/3/2020 | N/A.
TE-027791B | Recovery | National Park Service—Montezuma Castle and Tuzigoot Monuments | 10/2/2020 | N/A.
TE-233205 | Recovery | Bonn, Thomas Dean | 9/9/2020 | N/A.
TE-833851 | Recovery | City of Austin—Watershed Protection Department | 7/21/2020 | N/A.
TE-052561B | Recovery | Teague, Trevor N | 9/18/2020 | N/A.
TE-025816D | Recovery | Jacobs Engineering Group | 11/3/2020 | N/A.
TE-0195191 | Recovery | Baer Engineering and Environmental Consulting, Inc | 9/18/2020 | N/A.
TE-091552 | Recovery | Homesley, Zane N | 9/18/2020 | N/A.
TE-054802B | Recovery | Philips-Schaap, Megan Elizabeth | 9/18/2020 | N/A.
TE-058243B | Recovery | Hill, Austin E | 9/18/2020 | N/A.
TE-075848D | Recovery | Hudbay Minerals | 10/16/2020 | N/A.
TE-820730 | Recovery | New Mexico Energy, Minerals & Natural Resources Department | 8/21/2020 | N/A.
TE-0676811 | Recovery | U.S. Fish and Wildlife Service, Region 2 | 5/30/2020 | N/A.
TE-054791 | Recovery | Marshall, Bryce L | 4/28/2020 | N/A.
TE-075601D | Recovery | Horner, Kaitlyn Marie | 9/18/2020 | N/A.
TE-075678D | Recovery | Sonoran Institute | 12/4/2020 | N/A.
TE-075679D | Recovery | Ramirez, Alex | 6/8/2020 | N/A.
TE-085077A | Recovery | Zara Environmental LLC | 5/28/2020 | N/A.
TE-043777A | Recovery | Sea Life US, LLC | 9/30/2020 | N/A.
TE-064710A | Recovery | Jackson, Jacob Thomas | 5/28/2020 | N/A.
TE-0830177 | Recovery | University of Texas Marine Science Institute | 4/8/2020 | N/A.
TE-082067D | Recovery | Hoback, William Wyatt | 8/18/2020 | N/A.
TE-022545B | Recovery | Hanington, Michelle R | 11/4/2020 | N/A.
TE-063200B | Recovery | Audubon Arizona | 10/16/2020 | N/A.
TE-042958 | Recovery | Southwest Research NP | 7/8/2020 | N/A.
TE-074315D | Recovery | Hogue, Chaylum Harvey | 9/18/2020 | N/A.
TE-037418B | Recovery | Brown and Gay Engineers, Inc | 6/3/2020 | N/A.
TE-081982D | Recovery | Bohannon, Austin M.A | 8/19/2020 | N/A.
TE-024625A | Recovery | Leonard, Wendy Jae | 6/11/2020 | N/A.
TE-0829995 | Recovery | Dallas Zoo and Aquarium | 6/22/2020 | N/A.
TE-037047A | Recovery | Sea World of Texas LLC | 4/15/2020 | N/A.
TE-835139 | Recovery | Hawks Aloft, Inc | 6/17/2020 | N/A.
TE-146407 | Recovery | Belaire Environmental, Inc | 6/9/2020 | N/A.
TE-071777D | Recovery | Lisignoli, Jenny L | 6/30/2020 | N/A.
TE-074321D | Recovery | Weaver, Sara Patricia | 5/28/2020 | N/A.
TE-028891A | Recovery | Tristan, Timothy E | 7/9/2020 | N/A.
TE-084473 | Recovery | Pueblo of Santa Ana | 5/11/2020 | N/A.
TE-226653 | Recovery | Transition Zone Horticultural Institute Inc | 10/19/2020 | N/A.
TE-035147A | Recovery | Newstead, David John | 6/19/2020 | N/A.
TE-063522B | Recovery | Laney Environmental Consulting | 6/19/2020 | N/A.
TE-023162B | Recovery | Herman, Eric L | 7/22/2020 | N/A.
TE-069979D | Recovery | Mata, Barbi Elizabeth | 8/21/2020 | N/A.
TE-834782 | Recovery | Westland Resources, Inc | 9/18/2020 | N/A.
TE-069973D | Recovery | Whitney, James Edward | 4/7/2020 | N/A.
TE-082498 | Recovery | National Park Service—Flagstaff Area National Monuments | 10/21/2020 | N/A.
TE-819541 | Recovery | Bric, LLC | 6/5/2020 | N/A.
TE-051928B | Recovery | Moczygemba, Kevin John | 6/9/2020 | N/A.
TE-067302D | Recovery | Edwards, Christine E | 6/19/2020 | N/A.
TE-059231C | Recovery | Moulton, Laurel Lynne | 3/3/2020 | N/A.
TE-065027D | Recovery | McBride Biotracking LLC | 6/19/2020 | N/A.
TE-065030D | Recovery | The Peregrine Fund, Inc | 10/2/2020 | N/A.
TE-039466 | Recovery | U.S. Geological Survey—Idaho Cooperative Fish & Wildlife Research Unit | 3/18/2020 | N/A.
TE-075531D | Recovery | National Cave and Karst Research Institute | 9/15/2020 | N/A.
TE-0168185 | Recovery | Cox/McLain Environmental Consulting, Inc | 7/24/2020 | N/A.
TE-0195248 | Recovery | Morrison, Michael L | 6/8/2020 | N/A.
TE-063651A | Recovery | Power Engineers, Inc | 2/14/2020 | N/A.
TE-035437B | Recovery | U.S. Forest Service Santa Fe National Forest | 3/9/2020 | N/A.
TE-0155413 | Recovery | Itzkowitz, Murray | 5/27/2020 | N/A.
TE-063430D | Recovery | Hamilton, Gregor L | 3/2/2020 | N/A.
TE-797127 | Recovery | U.S. Army Corps of Engineers—Albuquerque District | 11/13/2020 | N/A.
TE-802211 | Recovery | Texas State University | 6/8/2020 | N/A.
TE-144755 | Recovery | Reagan Smith Energy Solutions, Inc | 10/2/2020 | N/A.
TE-063904D | Recovery | Lewis, Chancey D | 6/10/2020 | N/A.
TE-829996 | Recovery | Houston Zoo, Inc | 4/10/2020 | N/A.
TE-063216D | Recovery | Porter, James Mark | 3/6/2020 | N/A.
TE-030430B | Recovery | University of Houston—Clear Lake/Environmental Institute of Houston | 5/28/2020 | N/A.
TE-064624B | Recovery | Johnson, Cassidy Brown | 4/10/2020 | N/A.
TE-819471 | Recovery | SWCA Environmental Consultants | 1/24/2020 | N/A.
TE-836329 | Recovery | Blanton & Associates, Inc | 2/24/2020 | N/A.
TE-059909D | Recovery | Bell, Leslie Paige | 6/22/2020 | N/A.
TE-057462D | Recovery | Souther, Sara | 4/17/2020 | N/A.
TE-059882D | Recovery | Demarco, Jaime L | 2/14/2020 | N/A.
TE-822908 | Recovery | Caesar Kleberg Wildlife Research Institute | 12/8/2020 | N/A.
TE-044542B | Recovery | Olsson Associates | 4/27/2020 | N/A.
TE-059554D | Recovery | Stanek, Jenna E | 3/6/2020 | N/A.
TE-004439 | Recovery | Albuquerque Biological Park | 6/22/2020 | N/A.
TE-0819558 | Recovery | U.S. Forest Service—National Forests and Grasslands in Texas | 6/26/2020 | N/A.
TE-057477D | Recovery | WSP Parsons Brinckerhoff | 3/6/2020 | N/A.
TE-056331D | Recovery | Center of Excellence | 3/24/2020 | N/A.
TE-094245B | Recovery | Powers, Jarrod James | 3/20/2020 | N/A.
TE-082744D | Recovery | Gido, Keith B | 9/1/2020 | N/A.
TE-060125 | Recovery | Salt River Project | 4/6/2020 | N/A.
TE-034460C | Recovery | Grouse Mountain Environmental Consultants, LLC | 1/24/2020 | N/A.
TE-078347 | Recovery | U.S. Fish and Wildlife Service, Region 2 | 3/20/2020 | N/A.
TE-067183D | Recovery | Gido, Keith B | 6/19/2020 | N/A.
TE-008394B | Recovery | U.S. Forest Service | 10/14/2020 | N/A.
TE-819491 | Recovery | Ecosphere Environmental Services | 3/25/2020 | N/A.
TE-026711 | Recovery | U.S. Forest Service—Coconino National Forest | 8/24/2020 | N/A.
TE-028787B | Recovery | Lawrence, Cindy | 11/6/2020 | N/A.
TE-043754A | Recovery | Turner Endangered Species Fund, LLC | 2/24/2020 | N/A.
TE-160521 | Recovery | Tetra Tech, Inc | 4/6/2020 | N/A.
TE-819473 | Recovery | Grand Canyon National Park | 3/6/2020 | N/A.
TE-037155 | Recovery | Bio-West, Inc | 5/27/2020 | N/A.
TE-039544 | Recovery | Forstner, Michael R.J | 6/3/2020 | N/A.
TE-025790D | Recovery | Stark, Kaitlin Ann | 4/10/2020 | N/A.
TE-060111B | Recovery | Robb, Natalie J | 1/21/2020 | N/A.
TE-0798920 | Recovery | City of Austin, Balcones Canyonlands Preserve | 1/27/2020 | N/A.
TE-0116382 | Recovery | Peoria Tribe of Indians of Oklahoma | 7/8/2020 | N/A.
TE-044547B | Recovery | Dixon, Thomas Pingul | 9/25/2020 | N/A.
TE-009926 | Recovery | Gulf South Research Corporation | 2/5/2020 | N/A.

Illinois, Indiana, Iowa, Michigan, Minnesota, Missouri, Ohio, and Wisconsin

The following permits, sorted in the table below by type of permit or agreement and date issued, were issued by the Regional office responsible for section 10 permitting in the States listed above.

HCPs and CCAAs

For more information about any of the following HCP or CCAA permits, contact the field office that issued the permit by telephone: Illinois-Iowa Ecological Services Field Office (IL), at 309-757-5800, or Bloomington Ecological Services Field Office (IN), at 812-334-4261.

Recovery Permits

For more information about any of the following recovery permits, contact the Recovery Permit Coordinator by email at PermitsR3ES@fws.gov or by telephone at 612-713-5343.

Permit No. | Permit type | Permittee | Date issued and state | Plan or agreement name
TE-74464D-0 | CCAA | University of Illinois-Chicago | 4/3/2020 IL | Nationwide Candidate Conservation Agreement for Monarch Butterfly on Energy and Transportation Lands.
TE-69307D-0 | HCP | Blue Creek Wind Farm | 3/13/2020 IN | Indiana Bat and Northern Long-Eared Bat Habitat Conservation Plan for Blue Creek Wind Farm, Van Wert and Paulding Counties, Ohio.
TE-68782D-0 | HCP | Paulding Wind Farm II LLC; Paulding Wind Farm III LLC; Paulding Wind Farm IV LLC | 5/8/2020 IN | Indiana Bat and Northern Long-Eared Bat Final Habitat Conservation Plan for Timber Road II, III, and IV Wind Farms, Paulding County, Ohio.
TE-80697D-0 | HCP | Hog Creek Wind Project, LLC | 8/13/2020 IN | Indiana Bat and Northern Long-Eared Bat Habitat Conservation Plan for Hog Creek Wind Project, Hardin County, Ohio.
TE-85460D-0 | HCP | Michigan Department of Natural Resources | 11/5/2020 IN | Multi-state Mitchell's Satyr and Poweshiek Skipperling Habitat Conservation Plan.
TE-85464D-0 | HCP | Indiana Department of Natural Resources | 11/5/2020 IN | Multi-state Mitchell's Satyr and Poweshiek Skipperling Habitat Conservation Plan.
TE-041671D | Recovery | Carlson, Brian R | 12/31/2020 | N/A.
TE-081936D | Recovery | Damm, Jason P | 10/19/2020 | N/A.
TE-081935D | Recovery | Prewitt, Aaron M | 9/30/2020 | N/A.
TE-026953C | Recovery | Goodell, Karen | 9/14/2020 | N/A.
TE-028559D | Recovery | Radford's Run Wind Farm, LLC | 7/31/2020 | N/A.
TE-085231B | Recovery | Kalamazoo Nature Center | 6/29/2020 | N/A.
TE-194099 | Recovery | Hoggarth, Michael A | 9/30/2020 | N/A.
TE-144832 | Recovery | Detroit Zoological Society | 5/8/2020 | N/A.
TE-031055B | Recovery | Armstrong, Kory M | 7/10/2020 | N/A.
TE-075495D | Recovery | Tip of the Mitt Watershed Council | 7/9/2020 | N/A.
TE-075401D | Recovery | U.S. Geological Survey, Upper Midwest Environmental Sciences Center | 9/29/2020 | N/A.
TE-071730A | Recovery | Missouri Department of Conservation | 6/25/2020 | N/A.
TE-062311A | Recovery | Gilmore, Mary Brigid | 8/25/2020 | N/A.
TE-120259 | Recovery | Missouri Department of Conservation | 9/25/2020 | N/A.
TE-043541A | Recovery | Cuthbert, Francesca J | 6/2/2020 | N/A.
TE-070877D | Recovery | Jo Daviess Conservation Foundation | 5/27/2020 | N/A.
TE-007730A | Recovery | Redwing Ecological Services, Inc | 5/28/2020 | N/A.
TE-073584A | Recovery | Illinois Natural History Survey | 5/27/2020 | N/A.
TE-053616C | Recovery | Illinois Natural History Survey | 5/28/2020 | N/A.
TE-070019D | Recovery | Little Traverse Bay Bands of Odawa Indians | 7/8/2020 | N/A.
TE-089558A | Recovery | Romeling, Shannon Elizabeth | 5/5/2020 | N/A.
TE-069825D | Recovery | Michigan State University | 7/13/2020 | N/A.
TE-072093B | Recovery | Winterringer, Rebecca | 9/30/2020 | N/A.
TE-054397C | Recovery | Titus, Keifer L | 7/21/2020 | N/A.
TE-013580D | Recovery | Wilson, Julia R | 12/22/2020 | N/A.
TE-067351D | Recovery | The Nature Conservancy in Iowa | 5/18/2020 | N/A.
TE-068533D | Recovery | Toso, Luke B | 3/25/2020 | N/A.
TE-065859D | Recovery | Schuplin, Benjamin A | 7/15/2020 | N/A.
TE-070020D | Recovery | Nextera Energy Bluff Point, LLC | 7/30/2020 | N/A.
TE-065584D | Recovery | Pearse, Ian S | 4/9/2020 | N/A.
TE-033473D | Recovery | Sitting Up Perez, Antoinette R | 2/27/2020 | N/A.
TE-063118D | Recovery | Starbuck, Clarissa Ann | 3/9/2020 | N/A.
TE-062046D | Recovery | Sirajuddin, Pallavi | 11/10/2020 | N/A.
TE-062048D | Recovery | Kalina, Carly RW | 7/31/2020 | N/A.
TE-062001D | Recovery | Narem, Diane M | 3/10/2020 | N/A.
TE-043605A | Recovery | Cox, Daniel R | 1/23/2020 | N/A.
TE-060813D | Recovery | Lally, Nichole D | 7/20/2020 | N/A.
TE-006801A | Recovery | Pittsburgh Wildlife & Environmental, Inc | 9/9/2020 | N/A.
TE-060750D | Recovery | Geheber, Aaron Dean | 1/23/2020 | N/A.
TE-038085B | Recovery | Mountain State Biosurveys, LLC | 6/29/2020 | N/A.
TE-033467D | Recovery | McAlexander, Aaron M | 4/30/2020 | N/A.
TE-053584D | Recovery | U.S. Geological Service Columbia Environmental Research Center | 2/6/2020 | N/A.
TE-038856A | Recovery | Skelly and Loy, Inc | 7/8/2020 | N/A

Alabama, Arkansas, Florida, Georgia, Kentucky, Louisiana, Mississippi, North Carolina, South Carolina, and Tennessee, Commonwealth of Puerto Rico, and the U.S. Virgin Islands

The following permits, sorted in the table below by type of permit or agreement and date issued, were issued by the Regional office responsible for section 10 permitting in the States and territories listed above.

HCPs

For more information about any of the following HCPs, contact the HCP Permit Coordinator by email at PermitsR4ES@fws.gov or by telephone at 404-679-7310.

Recovery Permits

For more information about any of the following recovery permits, contact the Recovery Permit Coordinator by email at PermitsR4ES@fws.gov or by telephone at 404-679-7097.

Permit No. | Permit type | Permittee | Date issued | Plan or agreement name
TE-056400D | HCP | Wooley, Dean M | 2/28/2020 | Habitat Conservation Plan for the Threatened Florida Scrub-Jay, on Three Single Family Residential Lots, Brevard County, Florida.
TE-076013D | HCP | Freedom Construction USA, LLC | 9/18/2020 | Freedom Construction USA—2201 Conway Drive, for Florida Scrub-Jay.
TE-076784D | HCP | ICI Homes, Inc | 9/18/2020 | Low-Effect Habitat Conservation Plan for the Florida Scrub-Jay on the Hampton Oaks Project Site, City of Deltona, Volusia County, Florida.
TE-811813 | HCP | The County of Volusia | 1/15/2020 | Habitat Conservation Plan—A Plan for the Protection of Sea Turtles on the Beaches of Volusia County, Florida.
TE-080706 | HCP | Steel Bridge Properties LLC | 2/27/2020 | Habitat Conservation Plan for Alabama Beach Mouse under the General Conservation Plan.
TE-082159 | HCP | LLC. Cody & Finlay | 8/7/2020 | Habitat Conservation Plan for Alabama Beach Mouse under the General Conservation Plan.
TE-078729 | HCP | Stephens, Robert L | 3/27/2020 | Habitat Conservation Plan for Alabama Beach Mouse under the General Conservation Plan.
TE-131384 | HCP | Gellness, Bradley A | 2/14/2020 | Habitat Conservation Plan for Alabama Beach Mouse under the General Conservation Plan.
TE-155085 | HCP | JLKS Real Estate LLC | 5/28/2020 | Habitat Conservation Plan for Alabama Beach Mouse under the General Conservation Plan.
TE-155086 | HCP | Jeff Valentine | 11/20/2020 | Habitat Conservation Plan for Alabama Beach Mouse under the General Conservation Plan.
TE-218284 | HCP | Harris, Brian G | 4/10/2020 | Habitat Conservation Plan for Alabama Beach Mouse under the General Conservation Plan.
TE-018285 | HCP | Harris, Brian G | 3/20/2020 | Habitat Conservation Plan for Alabama Beach Mouse under the General Conservation Plan.
TE-076238B | HCP | Phillips, John L | 3/27/2020 | Habitat Conservation Plan for Alabama Beach Mouse under the General Conservation Plan.
TE-083974C | HCP | Fitzgerald, Tracy E | 4/9/2020 | Habitat Conservation Plan for Alabama Beach Mouse under the General Conservation Plan.
TE-084363C | HCP | City of Gulf Shores | 7/14/2020 | Habitat Conservation Plan Gulf Place East Parking Lot, Gulf Shores, Alabama.
TE-046239D | HCP | Steel Bridge Properties LLC | 6/18/2020 | Habitat Conservation Plan for Alabama Beach Mouse under the General Conservation Plan.
TE-033502D | HCP | Creek Holdings LLC | 2/4/2020 | Habitat Conservation Plan for Alabama Beach Mouse under the General Conservation Plan.
TE-065747D | HCP | Tapp, Samuel Dwayne | 2/4/2020 | Habitat Conservation Plan for Alabama Beach Mouse under the General Conservation Plan.
TE-087973C | HCP | Hychefam, LLC | 6/2/2020 | Habitat Conservation Plan for Alabama Beach Mouse under the General Conservation Plan.
TE-065746D | HCP | Acadian Designs, LLC | 3/18/2020 | Habitat Conservation Plan for Alabama Beach Mouse under the General Conservation Plan.
TE-048280D | HCP | Brett Real Estate Robinson Development Co. Inc | 3/20/2020 | Phoenix VI & VII Habitat Conservation Plan for Alabama Beach Mouse.
TE-070841D | HCP | McAleer, Charles H | 3/30/2020 | Habitat Conservation Plan for Alabama Beach Mouse under the General Conservation Plan.
TE-039674D | HCP | Miller, Michael B | 3/30/2020 | Habitat Conservation Plan for Alabama Beach Mouse under the General Conservation Plan.
TE-071873D | HCP | Foulks, Howard Edmond | 4/6/2020 | Habitat Conservation Plan for Alabama Beach Mouse under the General Conservation Plan.
TE-048827D | HCP | Andrews, Tina | 4/20/2020 | Habitat Conservation Plan for Alabama Beach Mouse under the General Conservation Plan.
TE-048830D | HCP | Andrews, Tina | 4/20/2020 | Habitat Conservation Plan for Alabama Beach Mouse under the General Conservation Plan.
TE-048834D | HCP | Murphy, Bonnie L | 4/20/2020 | Habitat Conservation Plan for Alabama Beach Mouse under the General Conservation Plan.
TE-039645D | HCP | Miller, Michael B | 4/20/2020 | Habitat Conservation Plan for Alabama Beach Mouse under the General Conservation Plan.
TE-075501D | HCP | Giggy, Larry | 5/13/2020 | Habitat Conservation Plan for Alabama Beach Mouse under the General Conservation Plan.
TE-075510D | HCP | Rook, Cary E | 6/18/2020 | Habitat Conservation Plan for Alabama Beach Mouse under the General Conservation Plan.
TE-077805D | HCP | Maxwell, Stephen Royce | 7/23/2020 | Habitat Conservation Plan for Alabama Beach Mouse under the General Conservation Plan.
TE-048276D | HCP | Williams, Karl E | 7/27/2020 | Habitat Conservation Plan for Alabama Beach Mouse under the General Conservation Plan.
TE-077839D | HCP | Wilden, Anne G | 8/7/2020 | Habitat Conservation Plan for Alabama Beach Mouse under the General Conservation Plan.
TE-081348D | HCP | Shuler, John and Brenda | 8/19/2020 | Habitat Conservation Plan for Alabama Beach Mouse under the General Conservation Plan.
TE-084890D | HCP | Carmichael, Sean & Dawn | 10/5/2020 | Habitat Conservation Plan for Alabama Beach Mouse under the General Conservation Plan.
TE-081541D | HCP | Pearson, Kathryn L | 10/5/2020 | Habitat Conservation Plan for Alabama Beach Mouse under the General Conservation Plan.
TE-082546D | HCP | Voyles, Timothy Paul | 12/4/2020 | Habitat Conservation Plan for Alabama Beach Mouse under the General Conservation Plan.
TE-063246D | HCP | Mccrory, Timothy P | 11/19/2020 | Low-Effect Habitat Conservation Plan Sea Glades at St. Andrew Bay for Parcels Gulf Beach S/D “C”.
TE-021091C | HCP | Cemex Construction Materials Florida, LLC | 11/17/2020 | Cemex Construction Materials Florida. Habitat Conservation Plan Dude Ranch Road Relocation Project Polk County, Florida.
TE-057069D | HCP | Holland Development Inc | 4/13/2020 | Clermont Site Habitat Conservation Plan for the Sand Skink.
TE-069951C | HCP | K. Hovnanian at Mystic Dunes, LLC | 4/17/2020 | Four Seasons Phase 2C, Habitat Conservation Plan for the Sand Skink and Blue-tailed Mole Skink.
TE-062782D | HCP | Asma & Asma | 6/19/2020 | Lookout Hill Habitat Conservation Plan for the Sand Skink.
TE-062775D | HCP | VK Avalon Groves LLC | 6/19/2020 | Serenoa AA Phases 3 & 4 Habitat Conservation Plan for the Sand Skink.
TE-068779D | HCP | School Board of Polk County | 6/25/2020 | Habitat Conservation Plan for the Sand Skink and Blue-tailed Mole Skink for School Board of Polk County.
TE-062777D | HCP | Lennar Homes | 7/6/2020 | Springhill Phase 3A Habitat Conservation Plan for the Sand Skink.
TE-076779D | HCP | Titan Liberty Lake Underhill IV and Village i-545 | 9/18/2020 | Habitat Conservation Plan for Titan Liberty Lake Underhill JV and Village I-545, Orange County, Florida.
TE-075283D | HCP | BB Groves, LLC | 9/18/2020 | Accolades Project Habitat Conservation Plan for the Sand Skink.
TE-076035D | HCP | Withers, LLC | 9/18/2020 | Withers North Habitat Conservation Plan for the Sand Skink.
TE-077447D | HCP | Tampa Electric Company | 10/6/2020 | Tampa Electric Company Pace Road Substation Habitat Conservation Plan for Sand Skink and Blue-tailed Mole Skink.
TE-056402D | HCP | Summergate Development LLC | 4/6/2020 | Habitat Conservation Plan for Summergate Territo Project Site, Lake County, Florida.
TE-054008D | HCP | Ernie Caldwell Properties, LLC | 4/17/2020 | Habitat Conservation Plan for Standard Sand, 120 North Polk County, Florida.
TE-062785D | HCP | Michael Collard Properties Inc | 6/19/2020 | Habitat Conservation Plan for Lane Park Commons, City of Tavares, Lake County, Florida.
TE-075515D | HCP | Cemex Construction Materials Florida, LLC | 9/17/2020 | Habitat Conservation Plan, Lake Wales South Mine project, Polk County Florida.
TE-066783A | HCP | Conservation Resource Partners, LLC | 11/10/2020 | Red Hills Salamander Occurrence and Habitat Assessment.
TE-016399D | HCP | Vulcan Materials Company, Florida Rock Division | 4/1/2020 | Habitat Conservation Plan for Sand Skink on the Borders Property for Future Mining.
TE-059400D | Recovery | Brezil, Stephen A | 1/7/2020 | N/A.
TE-062718D | Recovery | Nightshade, Scarlett R | 1/9/2020 | N/A.
TE-062077D | Recovery | Gateway City Reptiles, Inc | 1/7/2020 | N/A.
TE-062553D | Recovery | Puigdomenech, Jerald Anthony | 1/23/2020 | N/A.
TE-062555D | Recovery | Puigdomenech, Jerald Anthony | 1/23/2020 | N/A.
TE-059341D | Recovery | Watts, Jared L | 2/7/2020 | N/A.
TE-067244D | Recovery | Cavinder, William Lee | 3/5/2020 | N/A.
TE-061222D | Recovery | Amazing Animals, Inc | 2/25/2020 | N/A.
TE-056579D | Recovery | San Antonio Zoological Gardens & Aquarium | 2/27/2020 | N/A.
TE-070042D | Recovery | Hendershot, Daniel Nathan | 3/17/2020 | N/A.
TE-070049D | Recovery | Marshall, Samuel D | 3/17/2020 | N/A.
TE-064896D | Recovery | Lackey, Matthew | 4/6/2020 | N/A.
TE-070200D | Recovery | Witonsky, Michael | 3/17/2020 | N/A.
TE-071363D | Recovery | Daniel, Christopher Ross | 4/8/2020 | N/A.
TE-070072D | Recovery | Crandall, Joseph R | 5/19/2020 | N/A.
TE-076664D | Recovery | Barrett, Dalton Evan | 6/18/2020 | N/A.
TE-054490D | Recovery | Sherman, Howard V | 7/2/2020 | N/A.
TE-076782D | Recovery | Dossena, Christopher F | 8/5/2020 | N/A.
TE-077117D | Recovery | Kuhl, Jeffrey Todd | 7/21/2020 | N/A.
TE-076783D | Recovery | Musselwhite, Kent E | 7/20/2020 | N/A.
TE-078998D | Recovery | Alexander, Jeric | 8/24/2020 | N/A.
TE-081413D | Recovery | Tinker, Jordan C | 8/25/2020 | N/A.
TE-081415D | Recovery | Pillars, Jordyn Rachelle | 8/25/2020 | N/A.
TE-079527D | Recovery | Patimetha, Pakorn | 8/24/2020 | N/A.
TE-077916D | Recovery | Bertani, Paul J | 8/24/2020 | N/A.
TE-081284D | Recovery | Jack, David A | 8/24/2020 | N/A.
TE-081416D | Recovery | Shenesky, Billy Jason | 9/4/2020 | N/A.
TE-078179D | Recovery | Graham, William Nathan | 9/3/2020 | N/A.
TE-076719D | Recovery | Herbitter, Alexander Bruce | 9/29/2020 | N/A.
TE-081882D | Recovery | Johnston, Brad Ayers | 9/18/2020 | N/A.
TE-085029D | Recovery | Perez, Shanti Ana | 9/28/2020 | N/A.
TE-083054D | Recovery | Bustillo, Todd C | 10/27/2020 | N/A.
TE-088361D | Recovery | Danielson, Todd Eric | 11/5/2020 | N/A.
TE-083154D | Recovery | Buynovsky, Jason J | 10/30/2020 | N/A.
TE-084998D | Recovery | Massey, Daniel J | 11/25/2020 | N/A.
TE-078884D | Recovery | Gotcher, Thomas Clifford | 11/25/2020 | N/A.
TE-085453D | Recovery | Kang, Monica J | 12/3/2020 | N/A.
TE-084525D | Recovery | Nelson, Thomas L | 12/3/2020 | N/A.
TE-085001D | Recovery | Presas, Arturo T | 12/4/2020 | N/A.
TE-085449D | Recovery | Curgan, Stephen David | 12/3/2020 | N/A.
TE-081869D | Recovery | McGowan, Scott T | 12/3/2020 | N/A.
TE-085297D | Recovery | Johnston, Brad Ayers | 12/3/2020 | N/A.
TE-088402D | Recovery | Pepper, Alex H | 12/23/2020 | N/A.
TE-088412D | Recovery | Turner, Michael D | 12/23/2020 | N/A.
TE-085451D | Recovery | Lecompte, Jeffrey J | 12/23/2020 |
TE-088404D | Recovery | Kuhl, Jeffrey Todd | 12/23/2020 | N/A.
TE-086098D | Recovery | Monahan, Todd G | 12/23/2020 | N/A.
TE-085450D | Recovery | Fava, Samuel Anthony | 12/17/2020 | N/A.
TE-086020D | Recovery | Fava, Samuel Anthony | 12/23/2020 | N/A.
TE-086097D | Recovery | Miller, Kelli K | 12/23/2020 | N/A.
TE-022690 | Recovery | Meadowview Biological Research Station | 10/21/2020 | N/A.
TE-117405 | Recovery | Tennessee Valley Authority | 11/23/2020 | N/A.
TE-100070 | Recovery | U.S. Forest Service—National Forests in Alabama | 3/10/2020 | N/A.
TE-064740 | Recovery | Fort Stewart Fish and Wildlife Branch | 8/16/2020 | N/A.
TE-007748 | Recovery | U.S. Forest Service | 5/21/2020 | N/A.
TE-035594A | Recovery | Alabama Power Company | 12/18/2020 | N/A.
TE-038642A | Recovery | Avian Research and Conservation Institute | 3/31/2020 | N/A.
TE-824723 | Recovery | Bowman, Reed | 6/4/2020 | N/A.
TE-061981B | Recovery | The Peregrine Fund | 6/17/2020 | N/A.
TE-060988 | Recovery | Fort Jackson U.S. Army | 12/18/2020 | N/A.
TE-064767C | Recovery | Collins, John H | 8/11/2020 | N/A.
TE-075925 | Recovery | Shaw Air Force Base, Dept of Defense | 7/31/2020 | N/A.
TE-070041D | Recovery | Witter, Kristina Deanne | 12/13/2020 | N/A.
TE-142806 | Recovery | Cox, James Allan | 12/15/2020 | N/A.
TE-040792 | Recovery | U.S. Forest Service—Savannah River Site | 12/15/2020 | N/A.
TE-697819 | Recovery | Fish & Wildlife Service, Interior Regions 2 and 4 | 8/7/2020 | N/A.
TE-801914 | Recovery | Savannah River Ecology Lab | 10/20/2020 | N/A.
TE-008606C | Recovery | Jacksonville Zoological Society | 10/20/2020 | N/A.
TE-078919A | Recovery | Brevard Zoo | 7/20/2020 | N/A.
TE-042496D | Recovery | Garvin, Mary C | 1/24/2020 | N/A.
TE-083085 | Recovery | Archbold biological station | 2/5/2020 | N/A.
TE-002200B | Recovery | Atlanta Botanical Garden | 7/29/2020 | N/A.
TE-060238B | Recovery | Georgia Museum of Natural History | 9/29/2020 | N/A.
TE-108584 | Recovery | Nehus, Tim J | 2/21/2020 | N/A.
TE-059798B | Recovery | Daguna Consulting, LLC | 2/24/2020 | N/A.
TE-0171516 | Recovery | Copperhead Environmental Consulting, Inc | 6/12/2020 | N/A.
TE-002165C | Recovery | Stout, Isaac Jack | 5/28/2020 | N/A.
TE-063179 | Recovery | Edwards-Pitman Environmental, Inc | 5/27/2020 | N/A.
TE-081756A | Recovery | Robinson, Jason B | 4/22/2020 | N/A.
TE-089074 | Recovery | Corblu Ecology Group, LLC | 7/7/2020 | N/A.
TE-129703 | Recovery | HMB Professional Engineers, Inc | 6/26/2020 | N/A.
TE-056749B | Recovery | Moore, Patrick R | 4/27/2020 | N/A.
TE-056746B | Recovery | Johnson, Joseph S | 8/15/2020 | N/A.
TE-100012 | Recovery | Alabama Coastal Foundation | 2/18/2020 | N/A.
TE-032394A | Recovery | Florida Dept. Of Environmental Protection | 4/23/2020 | N/A.
TE-035313B | Recovery | Willcox, Emma Victoria | 4/27/2020 | N/A.
TE-056588D | Recovery | Melville, Martin John | 5/26/2020 | N/A.
TE-011542 | Recovery | Conservation Fisheries, Inc | 5/15/2020 | N/A.
TE-056515D | Recovery | Meade, Leslie S | 6/8/2020 | N/A.
TE-065875D | Recovery | Pruitt, William A | 7/2/2020 | N/A.
TE-052113D | Recovery | Bingham, Devin T | 6/19/2020 | N/A.
TE-068453D | Recovery | Edelman, Andrew J | 9/17/2020 | N/A.
TE-067197D | Recovery | Black, Tyler Ray | 10/1/2020 | N/A.
TE-050089D | Recovery | Mulero Oliveras, Eneilis S | 9/29/2020 | N/A.
TE-012392A | Recovery | The Institute for Marine Mammal Studies | 10/29/2020 | N/A.
TE-066005D | Recovery | Johnson, Joseph Tyler | 12/15/2020 | N/A.
TE-139474 | Recovery | FTN Associates, Ltd | 2/28/2020 | N/A.
TE-021570C | Recovery | Tennessee Wildlife Resources Agency | 3/31/2020 | N/A.
TE-077197C | Recovery | U.S. Army Corps of Engineers | 2/3/2020 | N/A.
TE-834070 | Recovery | Point Defiance Zoo & Aquarium | 3/5/2020 | N/A.
TE-064856 | Recovery | Farris, Trent Alan | 4/24/2020 | N/A.
TE-061239D | Recovery | Smithsonian National Zoological Park | 6/10/2020 | N/A.
TE-049280D | Recovery | The Nature Conservancy | 6/11/2020 | N/A.
TE-078650B | Recovery | Schmidt, Cassie Poindexter | 6/19/2020 | N/A.
TE-065334A | Recovery | Molano-Flores, Brenda | 2/6/2020 | N/A.
TE-053898D | Recovery | Diaz-Soltero, Hilda | 8/12/2020 | N/A.
TE-087176 | Recovery | Eisenhour, David J | 10/20/2020 | N/A.
TE-057120C | Recovery | Altamaha Environmental consulting, LLC | 6/10/2020 | N/A.
TE-077258 | Recovery | University of Florida | 2/4/2020 | N/A.
TE-046056C | Recovery | Ceilley, David W | 6/3/2020 | N/A.
TE-049227D | Recovery | Riverside Environmental Consulting | 1/22/2020 | N/A.
TE-049506D | Recovery | Judy, Daniel J | 4/22/2020 | N/A.
TE-050300D | Recovery | Wilson, Edward Thomas | 4/24/2020 | N/A.
TE-059340D | Recovery | Long, Ashley Marie | 7/31/2020 | N/A.
TE-059343D | Recovery | Barrios Gonzalez, Marla M | 9/28/2020 | N/A.
TE-056968D | Recovery | Andrews, Kimberly M | 8/11/2020 | N/A

Connecticut, Delaware, District of Columbia, Maine, Maryland, Massachusetts, New Hampshire, New Jersey, New York, Pennsylvania, Rhode Island, Vermont, Virginia, and West Virginia

The following permits, sorted in the table below by type of permit or agreement and date issued, were issued by the Regional office responsible for section 10 permitting in the States listed above.

HCPs

For more information about any of the following HCP, contact the HCP Permit Coordinator by telephone at 413-253-8200.

Recovery Permits

For more information about any of the following recovery permits, contact the Recovery Permit Coordinator by email at PermitsR5ES@fws.gov or by telephone at 413-253-8212.

Permit No. | Permit type | Permittee | Date issued | Plan or agreement name
TE-56381D-0 | HCP | North Allegheny Wind, LLC | 5/6/2020 | Habitat Conservation Plan for the North Allegheny Wind Facility.
TE-79704D-0 | HCP | Copenhagen Wind Farm LLC | 7/16/2020 | Indiana Bat and Northern Long-eared Bat Habitat Conservation Plan for the Copenhagen Wind Farm.
TE-86012D-0 | HCP | Albany Pine Bush Preserve Commission | 10/15/2020 | Habitat Conservation Plan for the Karner Blue Butterfly and the Frosted Elfin in the Albany Pine Bush Preserve.
TE-89771D-0 | HCP | Pennsylvania Game Commission and Pennsylvania Department of Conservation and Natural Resources | 12/23/2020 | Forestry Habitat Conservation Plan on Pennsylvania State Game Lands.
TE-086602C | Recovery | White Sulphur Springs National Fish Hatchery | 2/11/2020 | N/A.
TE-061005D | Recovery | Hepner, Mark Jameson | 6/8/2020 | N/A.
TE-001086D | Recovery | Virginia Department of Game and Inland Fisheries | 11/4/2020 | N/A.
TE-076982D | Recovery | Roulston, T'ai Honda | 11/4/2020 | N/A.
TE-086602C | Recovery | White Sulphur Springs National Fish Hatchery | 12/16/2020 | N/A

Colorado, Kansas, Montana, Nebraska, North Dakota, South Dakota, Utah, and Wyoming

The following permits, sorted in the table below by type of permit or agreement and date issued, were issued by the Regional office responsible for section 10 permitting in the States listed above.

HCPs and CCAAs

For more information about any of the following HCP or CCAA permits, contact the HCP or CCAA Permit Coordinator by telephone at 303-236-7905.

Recovery Permits

For more information about any of the following recovery permits, contact the Recovery Permit Coordinator by email at PermitsR6ES@fws.gov, or by telephone at 303-236-4224.

Permit No. | Permit type | Permittee | Date issued | Plan or agreement name
TE-042567B | CCAA | Longreach Buffalo Co, LLC | 9/17/2020 | Greater Sage Grouse Umbrella CCAA for Wyoming Ranch Management.
TE-034609 | HCP | Spp Montana, LLC | 3/26/2020 | Native Fish Habitat Conservation Plan.
TE-070004 | HCP | Stimson Lumber Company | 5/6/2020 | Native Fish Habitat Conservation Plan.
TE-057437D | Recovery | Carden, Timothy P | 3/20/2020 | N/A.
TE-012893D | Recovery | Halpin, Alisa Lynn | 7/16/2020 | N/A.
TE-0183430 | Recovery | Headwaters Corporation | 7/31/2020 | N/A.
TE-073201 | Recovery | Bureau of Land Management | 11/16/2020 | N/A.
TE-080647 | Recovery | Wildlife Specialties | 1/10/2020 | N/A.
TE-066330D | Recovery | Martin & Nicholson Environmental Consultants, LLC | 3/23/2020 | N/A.
TE-066521B | Recovery | Western biology, LLC | 5/7/2020 | N/A.
TE-053607D | Recovery | Colorado Parks and Wildlife | 1/10/2020 | N/A.
TE-073239C | Recovery | U.S. Army Corps of Engineers | 1/10/2020 | N/A.
TE-0145090 | Recovery | National Park Service | 1/27/2020 | N/A.
TE-067729 | Recovery | Kansas State University | 1/27/2020 | N/A.
TE-183432 | Recovery | Friends of the Zoo, Inc., Kansas City, Missouri | 5/7/2020 | N/A.
TE-037953D | Recovery | University of Wyoming | 1/29/2020 | N/A.
TE-026376D | Recovery | Forrest, Steven C | 3/10/2020 | N/A.
TE-000670A | Recovery | South Dakota Game, Fish and Parks | 3/6/2020 | N/A.
TE-006665B | Recovery | Utah Division of Wildlife | 3/10/2020 | N/A.
TE-056902B | Recovery | Bureau of Reclamation | 3/20/2020 | N/A.
TE-069300 | Recovery | Nebraska Game and Parks Commission | 3/20/2020 | N/A.
TE-042721B | Recovery | City of Fort Collins Natural Areas Department | 3/25/2020 | N/A.
TE-067251D | Recovery | Haun, Kelly C | 5/7/2020 | N/A.
TE-0232905 | Recovery | Como Park Zoo and Conservatory | 5/7/2020 | N/A.
TE-045150 | Recovery | Hoback, Wyatt W. | 8/18/2020 | N/A.
TE-091149 | Recovery | Confederated Salish and Kootenai Tribes | 1/16/2020 | N/A.
TE-0207946 | Recovery | Bureau of Reclamation | 8/31/2020 | N/A.
TE-069340D | Recovery | Severson, Andrea Marie | 3/24/2020 | N/A.
TE-074320D | Recovery | Brown, Nathanael L | 4/7/2020 | N/A.
TE-074317D | Recovery | Wyoming Natural Diversity Database | 5/7/2020 | N/A.
TE-056102 | Recovery | Real West Natural Resource Consulting | 6/8/2020 | N/A

Alaska

The following permit was issued by the Regional office responsible for section 10 permitting in Alaska. For more information about this recovery permit, contact the Permit Coordinator, by email at PermitsR7ES@fws.gov or by telephone at 907-786-3323.

Permit No. | Permit type | Permittee | Date issued | Plan or agreement name
TE-36906D-1 | Recovery | University of Alaska, Fairbanks: Institute of Arctic Biology | 2/7/2020 | N/A.

California, Nevada, and the Klamath Basin Portion of Oregon

The following permits, sorted in the table below by type of permit or agreement and date issued, were issued by the Regional office responsible for section 10 permitting in the States and region listed above.

HCPs and SHAs

For more information about any of the follow HCP permits contact the HCP Permit Coordinator by email at dan_cox@fws.gov.

Recovery Permits

For more information about any of the following recovery permits, contact the Recovery Permit Coordinator by email at PermitsR8ES@fws.gov or by telephone at 916-414-6464.

Permit No. | Permit type | Permittee | Date Issued | Plan or agreement name
TE-89152D | HCP | Aera Energy LLC | 12/28/2020 | Block 12 Development Project Habitat Conservation Plan.
TE- 88501D | HCP | Chips LLC | 12/2/2020 | General Conservation Plan for Cultivation Activities.
TE-78131D | HCP | Sun Valley Ranch, LLC | 8/31/2020 | General Conservation Plan for Cultivation Activities.
TE-89654D | HCP | Canyon Produce LLC | 12/23/2020 | Los Alamos Conservation Plan for Cultivation Activities.
TE-80615D | HCP | Singh, Stephanie R | 8/5/2020 | Low-Effect Habitat Conservation Plan for the Morro Shoulderband Snail.
TE-75277D | HCP | Yellow Foxtrot II, LLC | 8/20/2020 | General Conservation Plan for Cultivation Activities.
TE-82650D | HCP | Stanilaus Regional Water Authority | 9/20/2020 | Surface Water Supply Project Final Low-Effect Habitat Conservation Plan.
TE-83597D | HCP | Indemitsu Renewables | 11/12/2020 | Central 40 Solar Project Low-Effect Habitat Conservation Plan.
TE-78196D | HCP | Castlerock Family Farms II, LLC | 8/31/2020 | General Conservation Plan for Cultivation Activities.
TE-74215D | HCP | Newera, LLC | 4/20/2020 | General Conservation Plan for Cultivation Activities.
TE-77814D | HCP | Pacific Gas and Electric | 6/29/2020 | Multiple Region Operations and Maintenance Habitat Conservation Plan.
TE-78704D | HCP | County of San Bernardino Flood Control District | 7/13/2020 | Upper Santa Ana River Wash Habitat Conservation Plan.
TE-78703D | HCP | San Bernardino Valley Water Conservation District | 7/13/2020 | Upper Santa Ana River Wash Habitat Conservation Plan.
TE-56762D | HCP | Oak Hills Estate, LLC | 4/20/2020 | Oak Hills Estate Habitat Conservation Plan.
TE-71171D | HCP | The Sunrise Gardens Project Owner, LLC | 3/17/2020 | Low-Effect Habitat Conservation Plan for the Coastal California Gnatcatcher; Sunrise Project, City of San Marcos, San Diego County, California.
TE-88628D | HCP | County of Placer; City of Lincoln; Placer County Water Agency; South Placer Regional Transportation Authority; Placer Conservation Authority | 12/3/2020 | Western Placer County Habitat Conservation Plan/Natural Communities Conservation Plan.
TE-80620D | HCP | Upitis, Andris/12 Rancho San Carlos | 8/14/2020 | 12 Rancho San Carlos (Ocho West) Low-Effect Habitat Conservation Plan.
TE-84089D | HCP | Sierra Pacific Land & Timber Company (SPL&T) | 9/30/2020 | Habitat Conservation Plan for Northern and California Spotted Owl Sierra Pacific Industries Forestland Management Program in the Klamath, Cascade, and Sierra Nevada Mountains, California.
TE-56304D | HCP | DBO Development #30 LLC/South of Tioga | 3/23/2020 | Low-Effect Habitat Conservation Plan, South of Tioga Project.
TE-73508D | HCP | County of Santa Cruz Probation Department | 4/1/2020 | Santa Cruz County Juvenile Hall HCP.
TE-15742D | HCP | City of Rancho Palos Verdes | 4/14/2020 | Rancho Palos Verdes HCP.
TE-88630D | HCP | Rooney Ranch, LLC | 12/31/2020 | Rooney Ranch Wind Repowering Project Final Habitat Conservation Plan.
TE-72863D | HCP | GTE Mobilenet of California, L.P | 4/1/2020 | Low-Effect Habitat Conservation Plan for the Verizon Wireless Telecommunications Facility Expansion Project.
TE-067064 | Recovery | Messett, Lindsay A | 10/15/2020 | N/A.
TE-19822D | Recovery | Richardson, Sarah Renee | 6/12/2020 | N/A.
TE-067065 | Recovery | Deluna, Adam James | 4/23/2020 | N/A.
TE-19822D | Recovery | Aguayo, Jonathan | 4/1/2020 | N/A.
TE-067066 | Recovery | Cooper Hill, Alicia Ornelas | 10/15/2020 | N/A.
TE-19822D | Recovery | Ryan, Thomas P | 4/22/2020 | N/A.
TE-067067 | Recovery | U.S. Navy | 3/20/2020 | N/A.
TE-19822D | Recovery | Point Reyes Bird Observatory | 3/2/2020 | N/A.
TE-067068 | Recovery | Clark, Kevin B | 3/19/2020 | N/A.
TE-19822D | Recovery | Bernal, Lorena L | 3/17/2020 | N/A.
TE-067069 | Recovery | Vettes, Brennan C | 1/10/2020 | N/A.
TE-19822D | Recovery | Ortega, Brock A | 3/25/2020 | N/A.
TE-067070 | Recovery | Preite, Srianne B | 5/13/2020 | N/A.
TE-19822D | Recovery | Aecom Technical Services | 1/21/2020 | N/A.
TE-067071 | Recovery | East Bay Regional Park District | 2/10/2020 | N/A.
TE-19822D | Recovery | Heredia, Amber O | 2/11/2020 | N/A.
TE-067072 | Recovery | Mayta, Sheri | 10/15/2020 | N/A.
TE-19822D | Recovery | Liu, Leonard Y | 10/15/2020 | N/A.
TE-067066 | Recovery | Martinelli, Erin Lindsey | 5/27/2020 | N/A.
TE-19822D | Recovery | Easley, Todd Anthony | 8/4/2020 | N/A.
TE-067067 | Recovery | Barrera, Sarah Jane | 10/15/2020 | N/A.
TE-19822D | Recovery | San Bernardino Valley Water Conservation District | 5/27/2020 | N/A.
TE-067068 | Recovery | Olmos, Erik F | 6/3/2020 | N/A.
TE-19822D | Recovery | Wagner, Nicholas Ronald | 4/1/2020 | N/A.
TE-067069 | Recovery | Congedo, Christina Elise | 7/1/2020 | N/A.
TE-19822D | Recovery | Prestera, Wendy J | 4/22/2020 | N/A.
TE-067070 | Recovery | Quilley, Ryan G | 3/4/2020 | N/A.
TE-19822D | Recovery | Sweet, Lynn C | 3/28/2020 | N/A.
TE-067071 | Recovery | Cunningham, Dawn Marie | 12/17/2020 | N/A.
TE-19822D | Recovery | Prado, Victoria E | 8/21/2020 | N/A.
TE-067072 | Recovery | Westervelt Ecological services, LLC | 8/21/2020 | N/A.
TE-19822D | Recovery | Laulikitnont, Pim | 8/21/2020 | N/A.
TE-067073 | Recovery | Leis, Michelle Marie | 8/21/2020 | N/A.
TE-19822D | Recovery | McLean, Katherine Matilda | 7/10/2020 | N/A.
TE-067066 | Recovery | Garten, Kyla M | 6/2/2020 | N/A.
TE-19822D | Recovery | Scampavia, Margaret Rei | 4/21/2020 | N/A.
TE-067067 | Recovery | Herrera, Lisa Ann | 8/4/2020 | N/A.
TE-19822D | Recovery | Noce, Donna M. | 4/2/2020 | N/A.
TE-067068 | Recovery | Bonzey, Nicholas S | 4/22/2020 | N/A.
TE-19822D | Recovery | Swaim, Karen E. | 8/25/2020 | N/A.
TE-067069 | Recovery | Creekside Center for Earth Observation | 6/2/2020 | N/A.
TE-19822D | Recovery | Lewellen, Cherie Jane | 7/1/2020 | N/A.
TE-067070 | Recovery | Allen, Jason W | 6/2/2020 | N/A.
TE-19822D | Recovery | Didonato, Joseph E | 2/7/2020 | N/A.
TE-067071 | Recovery | Brown, Katie R | 2/7/2020 | N/A.
TE-19822D | Recovery | Wyckoff, Anna Christel | 2/7/2020 | N/A.
TE-067072 | Recovery | Schliebe, Matthew C | 1/10/2020 | N/A.
TE-19822D | Recovery | Marty, Jaymee T | 2/7/2020 | N/A.
TE-067073 | Recovery | Sennett, Allie E | 5/13/2020 | N/A.
TE-19822D | Recovery | Dakin, Robin Elizabeth | 1/10/2020 | N/A.
TE-067074 | Recovery | Johnson, Pieter TJ | 5/1/2020 | N/A.
TE-19822D | Recovery | Koehler, Jonathan T | 1/10/2020 | N/A.
TE-067067 | Recovery | Kann “aka Rogers”, Richard U | 1/10/2020 | N/A.
TE-19822D | Recovery | Ford, Andrew J | 4/2/2020 | N/A.
TE-067068 | Recovery | Terry, Dana E | 1/8/2020 | N/A.
TE-19822D | Recovery | Rogers, Ariana | 1/10/2020 | N/A.
TE-067069 | Recovery | Eda C. Eggeman | 1/8/2020 | N/A.
TE-19822D | Recovery | U.S. Geological Survey—Western Ecological Research Center | 6/18/2020 | N/A.
TE-067070 | Recovery | Seaworld LLC | 5/15/2020 | N/A.
TE-19822D | Recovery | Smith, Katherine Rose | 5/11/2020 | N/A.
TE-067071 | Recovery | U.S. Geological Survey | 10/16/2020 | N/A.
TE-19822D | Recovery | Zoological Society of San Diego | 5/28/2020 | N/A.
TE-067072 | Recovery | River Design Group, Inc | 5/8/2020 | N/A.
TE-19822D | Recovery | Zoological Society of San Diego | 12/10/2020 | N/A.
TE-067073 | Recovery | Tremor, Scott B | 4/22/2020 | N/A.
TE-19822D | Recovery | Ward, Darren M | 6/3/2020 | N/A.
TE-067074 | Recovery | Paymard, Marshall | 4/22/2020 | N/A.
TE-19822D | Recovery | Lahti, Megan E | 7/2/2020 | N/A.
TE-067075 | Recovery | Bakker, Jasmine Jordana | 2/7/2020 | N/A.
TE-19822D | Recovery | Pollett, Kathleen Louise | 7/1/2020 | N/A.
TE-067068 | Recovery | Northcoast Regional Land Trust | 3/4/2020 | N/A.
TE-19822D | Recovery | Bighorn Institute | 5/20/2020 | N/A.
TE-067070 | Recovery | California Military Department | 3/20/2020 | N/A.
TE-19822D | Recovery | Shoemaker, Kevin T | 8/19/2020 | N/A.
TE-067071 | Recovery | U.S. Geological Survey | 9/4/2020 | N/A.
TE-19822D | Recovery | Stoelting, Ricka E | 12/17/2020 | N/A.
TE-067072 | Recovery | Hinderle, Danna | 3/31/2020 | N/A.
TE-19822D | Recovery | Cleveland, Cindy M | 8/4/2020 | N/A.
TE-067073 | Recovery | Warzecha, Bernhard | 8/4/2020 | N/A.
TE-19822D | Recovery | Huang, Joseph L | 4/21/2020 | N/A.
TE-067074 | Recovery | Grimaldo, Lenny F | 1/29/2020 | N/A.
TE-19822D | Recovery | City of Eureka | 4/21/2020 | N/A.
TE-067075 | Recovery | Castanon, Chennie S | 3/20/2020 | N/A.
TE-19822D | Recovery | U.S. Forest Service—Eldorado National Forest | 3/3/2020 | N/A.
TE-067076 | Recovery | Henderson, Lisa A | 3/26/2020 | N/A.
TE-19822D | Recovery | Department of Army, fort Irwin National Training Center | 1/8/2020 | N/A.
TE-067069 | Recovery | Joshua Tree National Park | 10/2/2020 | N/A.
TE-19822D | Recovery | Hyland, Mason D | 1/8/2020 | N/A.

Availability of Documents

You may request copies of the Federal Register documents publishing the receipt of applications for these permits from the office that issued the permit (see contact information above). Documents and other information submitted with these applications are also available for review, subject to the requirements of the Privacy Act (5 U.S.C. 552a) and Freedom of Information Act (5 U.S.C. 552), by any party who submits a written request for a copy of such documents.

Authority

We provide this notice under the authority of section 10 of the ESA (16 U.S.C. 1531 et seq.).

Gary Frazer,
Assistant Director for Ecological Services.

[FR Doc. 2021-10839 Filed 5-21-21; 8:45 am]

BILLING CODE 4333-15-P